DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. 35). To request a copy of these documents, call the SAMHSA Reports Clearance Officer on (240) 276-1243.

Project: National System of Care Expansion Evaluation—NEW

The Substance Abuse and Mental Health Services Administration (SAMHSA), Center for Mental Health Services (CMHS) is requesting approval from the Office of Management and Budget (OMB) for the new collection of data for the National System of Care (SOC) Expansion Evaluation.

Evaluation Plan and Data Collection Activities. The purpose of the National SOC Expansion Evaluation is to assess the success of the SOC expansion planning and implementation grants in expanding the reach of SOC values, principles, and practices. These include maximizing system-level coordination and planning, offering a comprehensive array of services, and prioritizing family and youth involvement. In order to obtain a clear picture of SOC expansion grant activities, this longitudinal, multi-level evaluation will measure activities and performance of grantees at three levels essential to building and sustaining effective SOCs. The three levels are: jurisdiction, local system, and child and family levels.

Data collection activities will occur through four evaluation components. Each component includes data collection activities and analyses involving similar topics. Each component has multiple instruments that will be used to address various aspects. Thus, there are a total of eight new instruments that will be used to conduct this evaluation. All four evaluation components involve collecting data from implementation grantees, but only the Implementation assessment includes data collection from planning grantees as well.

The four studies with their corresponding data collection activities are as follows:

(1) The Implementation assessment will document the development and expansion of SOCs. Data collection activities include: (a) Stakeholder Interviews with high-level administrators, youth and family representatives, and child agencies to describe the early implementation and expansion efforts of planning and implementation grants, (b) the web-based Self-Assessment of Implementation Survey (SAIS) to assess SOC implementation and expansion at the jurisdictional level over time, and (c) the SOC Expansion Assessment (SOCEA) administered to local providers, managers, clients, and their caregivers to measure SOC expansion strategies and processes implemented related to direct service delivery at the local system level. Implementation grantees will participate in all three of the Implementation assessment data collection activities. Planning grantee participation will be limited to the Stakeholder Interview and the Self-Assessment of Implementation Survey.

(2) The Network Analysis will use Network Analysis Surveys to determine the depth and breadth of the SOC collaboration across agencies and organization. Separate network analysis surveys will be administered at the jurisdiction and local service system levels. The Geographic Information System (GIS) Component will measure the geographic coverage and spread of the SOC, including reaching underserved areas and populations. At the jurisdictional and local service system levels, the GIS component will use office and business addresses of attendees to key planning, implementation and expansion events. At the child/youth and family level, Census block groups (derived from home addresses) will be used to depict the geographic spread of populations served by SOCs.

(3) The Financial Mapping Component involves the review of implementation grantees' progress in developing financial sustainability and expansion plans. The Financial Mapping Interview will be conducted with financial administrators of Medicaid Agencies, Mental Health Authorities, mental health provider trade associations, and family organizations. The Benchmark Component will compare relative rates of access, utilization, and costs for children's mental health services using the Benchmarking Tool and administrative data requested from financial administrators and personnel working with Medicaid Agency and Mental Health Authority reporting and payment systems.

(4) The Child and Family Outcome Component will collect longitudinal data on child clinical and functional outcomes, family outcomes, and child and family background. Data will be collected at intake, 6-months, and 12-months post service entry (as long as the child/youth is still receiving services). Data will also be collected at discharge if the child/youth leaves services before the 12-month data collection point. Data will be collected using the following scales: (a) A shortened version of the Caregiver Strain Questionnaire, (b) the Columbia Impairment Scale, (c) the Pediatric Symptom Checklist-17, (d) Family/Living Situation items, and (e) background information gathered through the Common Data Platform (CDP). Although OMB approval for the CPD has been sought separately under an unrelated contract, this data collection will include both youth age 11 to 17 and their caregivers whereas CDP includes only one of these respondents (i.e., youth or caregiver).

Estimated Burden. Data will be collected from approximately 51 planning and 106 implementation grant jurisdictions and local systems. Data collection for this evaluation will be conducted over a 4-year period.

The average annual respondent burden estimate reflects the average number of respondents in each respondent category, the average number of responses per respondent per year, the average length of time it will take to complete each response, and the total average annual burden for each category of respondent for all categories of respondents combined. Table 1 shows the estimated annual burden estimate by instrument and respondent. Burden is summarized in Table 2.

Table 1—Estimated Average Annual Burden
Instrument/Data collection activity | Respondent | Number of respondents | Responses per respondent | Total number of responses | Hours per response | Total annual burden hours
Implementation Assessment
Stakeholder Interviews ᵃ | Project Director | 57 | 1 | 57 | 1.6 | 90
| Family Organization Representative | 57 | 1 | 57 | 1.6 | 90
| Youth Organization Representative | 57 | 1 | 57 | 1.6 | 90
| Core Agency Partners ᵇ | 287 | 1 | 287 | 1.3 | 358
SAIS ᵃ | Grant leadership | 1,540 | 1.93 | 2,970 | 0.82 | 2,426
SOCEA | Project Director & Representatives from Family & Youth Organizations | 143 | 1 | 143 | 1.5 | 215
| Core Agency Rep, Service Providers | 429 | 1 | 429 | 1.0 | 533
| Care Coordinators | 95 | 1 | 95 | 1.7 | 162
| Caregivers | 95 | 1 | 95 | 0.75 | 106
| Clients 14-21 | 95 | 1 | 95 | 0.5 | 48
Network Analysis Survey
Jurisdiction | Grant leadership | 353 | 1 | 353 | 0.4 | 147
Local system | Local providers of direct services | 707 | 1 | 707 | 0.4 | 294
GIS Component: Group Collaborative Events for GIS Analysis Form
Jurisdiction | Grant administrator/Project Director | 106 | 4 | 424 | 0.25 | 106
Local system | Local administrator/Project Director | 106 | 4 | 424 | 0.25 | 106
Financial Mapping and Benchmark Components
Financial Mapping Interview | Financial administrators at: Medicaid Agencies & MH Authorities | 97 | 1 | 97 | 2.0 | 217
| Financial administrators at: Trade associations & Family organizations | 332 | 1 | 332 | 1.5 | 52
Benchmark Tool | Payment/reporting personnel at: Medicaid Agencies & MH Authorities | 24 | 1 | 24 | 40.0 | 960
Child and Family Outcome Component
Background Information (CDP) ᶜ | Caregivers of clients age 11-17 ᵈ | 631 | ᵉ 2.12 | 1,337 | 0.37 | 491
| Clients age 11-17 | 631 | 2.12 | 1,337 | 0.37 | 491
Family/Living Information | Caregivers of clients age 5-17 ᶠ | 3,172 | 2.12 | 6,725 | .05 | 336
| Clients age 18-21 ᵍ | 650 | 2.12 | 1,377 | .05 | 69
Caregiver Strain Questionnaire—Short Form | Caregivers of clients age 5-17 | 3,172 | 2.12 | 6,725 | 0.12 | 807
Columbia Impairment Scale | Caregivers of clients age 5-17 | 3,172 | 2.12 | 6,725 | 0.08 | 538
| Clients age 11-21 ʰ | 1,911 | 2.12 | 4,051 | 0.08 | 324
Pediatric Symptom Checklist-17 | Caregivers of clients age 5-17 | 3,172 | 2.12 | 6,725 | 0.05 | 336
| Clients age 11-21 | 1,911 | 2.12 | 4,051 | 0.05 | 203
Client record review | Site staff | 28 | 407 | 11,261 | 0.21 | 2,365
Total Annual Burden
All | All | 9,365 |  | 56,664 |  | 11,958
a. Burden includes planning and implementation grantees.
b. Core agency partners include (1) representatives from MH, child welfare, and juvenile justice and (2) CMHI quality monitors.
c. OMB clearance sought for CDP is limited to the added burden for a second respondent (Caregiver OR Client age 11 to 17). For clients age 11 to 17, CDP only collects information from either Caregivers OR youth. In addition, clearance is requested for the burden only as OMB approval of CDP has been sought separately.
d. Assumes 33% of clients will be age 11 to 17 and that the additional CDP interview for clients age 11 to 17 and their caregiver will be evenly split between clients and caregivers. Evaluation design requires all participating clients age 5 to 17 to have a caregiver participating in the evaluation.
e. Accounts for attrition.
f. Assumes 83% of clients will be age 5 to 17.
g. Assumes 17% of clients will be age 18 to 21.
h. Assumes 50% of clients will be age 11 to 21.

Table 2—Total Estimated Annual Burden
Instrument/Data collection activity | Number of respondents | Total number of responses | Average annual burden (hours)
Stakeholder Interviews | 459 | 459 | 628
SAIS | 1,540 | 2,970 | 2,426
SOCEA | 858 | 858 | 1,063
Network analysis survey | 1,060 | 1,060 | 442
GIS | 212 | 848 | 212
Financial mapping interview | 129 | 129 | 269
Benchmark Tool | 24 | 24 | 960
Child and family tools (respondent & staff burden) | 5,083 | 50,316 | 5,959
Total | 9,365 | 56,664 | 11,958

Written comments and recommendations concerning the proposed information collection should be sent by January 28, 2015 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2014-30288 Filed 12-24-14; 8:45 am]

BILLING CODE 4162-20-P